DEPARTMENT OF AGRICULTURE

Forest Service

Request for Comment; Notice of Intent To Prepare an Environmental Impact Statement

AGENCY: Forest Service, USDA.

ACTION: Notice.

SUMMARY: The Forest Service invites comments and suggestions on the scope of the proposed Environmental Impact Statement and management plan for the most effective management of 8.5 miles of the Gold Camp Road. This is a historic Forest Service road that crosses national forest lands southwest of Colorado Springs, Colorado. This 8.5-mile segment of road has been partially closed since the collapse of one of the tunnels. The objective of the management plan is to best accommodate public use and access to national forest lands and nearby private in-holdings while maintaining public safety and the historic character of the road.

DATES: Comments concerning this notice should be received in writing August 16, 2004.

ADDRESSES: Comments concerning this notice should be addressed to Gold Camp Road Project, Pike National Forests Forest Service, USDA, 601 South Weber Street, Colorado Springs, CO, 80903. Comments also may be submitted via facsimile to (719) 477-4233 or e-mail to www.fs.fed.us/r2/psicc/pp follow the link to the comment page.

The public may inspect comments received at Pikes Peak Ranger District, 601 South Weber Street, Colorado Springs, CO. Visitors are encouraged to call (719) 477-4203 to facilitate entry to the building.

FOR FURTHER INFORMATION CONTACT: Frank Landis, Supervisory Outdoor Recreation Planner, Pikes Peak Ranger District, at (719) 477-4203.

SUPPLEMENTARY INFORMATION:

Estimated Dates for Filing

The draft Environmental Impact Statement (EIS) is expected to be filed with the Environmental Protection Agency and available for public review October/November, 2004. A 45-day comment period will follow publication of a Notice of Availability of the draft EIS in the Federal Register. Comments received on the draft EIS will be analyzed and considered in preparation of the final EIS, expected in June 2005. A Record of Decision will also be issued and published at that time along with the publication of a Notice of Availability of the final EIS in the Federal Register.

Reviewers Obligation To Comment

The Forest Service believes that, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statements may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when the Forest Service can meaningfully consider them and respond to them in the final environmental impact statement.

To assist the Forest Service in identifying and considering issues and concerns on the proposed action, comments should be as specific as possible. Reviewers may wish to refer to the Council on Environmental Quality Regulations for implementing the procedural provisions of the National Environmental Policy Act at 40 CFR 1503.3 in addressing these points.

This notice of intent initiates the scoping process which guides the development of the environmental impact statement.

The scoping process will include public meetings and interaction with federal, state, and local officials. Information regarding the place and time of the public scoping meetings will be announced in area media, as well as posted on the Forest Service Pike and San Isabel National Forests Internet site at http://www.fs.fed.us./r2/psicc. Public meetings will be held once the draft management plan and environmental impact statement are available for review.

Preliminary issues include the following:

• Impacts to recreational use, as well as the scenic resources associated with the area.

• Impacts to the historic character of the road and tunnels and its listing status on the National Register of Historic Places.

• Impacts to public health and safety.

• Impacts to water resources.

• Impacts to existing infrastructure (road capacities).

• Impacts to terrestrial and aquatic habitats and species.

The Purpose and Need for Action

Gold Camp Road has a long history of use in the area. In 1901, the travel way was a railroad from Colorado Springs, Colorado, to the gold fields of Cripple Creek, Colorado. In 1922, the railway was sold and the route was converted to a vehicular road when auto-tourism in the Pikes Peak region was just beginning. From 1924 to the 1930s, the road was a private toll road and it became a free highway and was known in 1939 as the Gold Camp Road. In the mid-1940s, ownership of the 25+ mile road was deeded to the Forest Service. The road was open to the public until the late 1980s. In 1988, a partial collapse of Tunnel #3 forced closure of an 8.5-mile section of the road.

From 1988 to 1990, the Forest Service initiated a process to repair the collapsed tunnel. In June 1991, the Forest Service submitted the project through the Forest Service Capital Investment Program (CIP). The Forest Service started implementing the decision to repair the tunnel. In the meantime, non-motorized recreation use such as bicycles, hikers, horseback, has increased in number and began to use the closed section of the road. In 1994, the Forest Service blocked Tunnel #3 as a safety measure while waiting for funding to repair the tunnel. In 1999, the entire road was listed in the National Register of Historic Places. In 2000, a lawsuit was filed by several plaintiffs requesting that a new analysis be conducted. In October 2000, the Forest Service withdrew the 1990 decision and decided to initiate a new process to evaluate the project. This current planning process will develop management alternatives for the project, which will be evaluated in an Environmental Impact Statement.

Nature of Decision To Be Made

The decision to be made by the Forest Service is which management plan to approve for the Gold Camp Road to best meet the project's objectives and the applicable regulatory and policy requirements. Project alternatives include the No Action Alternative, which in effect would result in continued closure of the 8.5 miles of road.

Responsible Official

The Responsible Official is the Forest Supervisor, Pike and San Isabel National Forests, Forest Service, USDA.

Use of Comments

Comments received in response to this notice, including names and addresses, when provided, will become a matter of the public record and will be available for public inspection and copying.

All submissions from organizations and businesses, and from individuals identifying themselves as representatives or officials of organizations or businesses, will be available for public inspection in their entirety. Comments submitted anonymously will be accepted and considered; however, those who submit anonymous comments will not have standing to appeal the subsequent decision under 36 CFR Part 215. Upon completion of the Draft Plan/EIS the document will be provided to the public for review and comment. Comments and FS responses will be addressed and contained in the Final Plan/EIS.

Dated: June 22, 2004.
Robert Leaverton,
Forest Supervisor.

[FR Doc. 04-14553 Filed 6-29-04; 8:45 am]

BILLING CODE 3410-11-P